DEPARTMENT OF TRANSPORTATION

Federal Aviation Administration

[Docket No. FAA-2021-0802]

Agency Information Collection Activities: Requests for Comments; Clearance of a Renewed Approval of Information Collection: Training and Qualification Requirements for Check Airmen and Flight Instructors

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on September 8, 2021. The collection involves the reporting requirements to ensure the check pilots and instructors are adequately trained and checked/evaluated to ensure they are capable and competent to perform the duties and responsibilities required by the air carrier to meet the regulations. Experienced pilots who would otherwise qualify as flight instructors or check airmen, but who may not medically eligible to hold the requisite medical certificate are mandated to keep records that may be inspected by the FAA to certify eligibility to perform flight instructor or check airmen functions.

DATES: Written comments should be submitted by August 4, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Kevin M. Donohue by email at: kevin.donohue@faa.gov; phone: 316-941-1223.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0600.

Title: Training and Qualification Requirements for Check Airmen and Flight Instructors.

Form Numbers: There are no forms associated with this collection of information.

Type of Review: Renewal of an information collection.

Background: The Federal Register Notice with a 60-day comment period soliciting comments on the following collection of information was published on September 8, 2021 (86FR50423). Federal Aviation Regulations (FAR) parts 121.411(d), 121.412(d), 135.337(d), and 135.338(d) require the collection of this data. This collection is necessary to insure that instructors and check airmen have completed necessary training and checking required to perform instructor and check airmen functions.

Respondents: There are approximately 15,925 check airmen and flight instructors.

Frequency: Information Collection is On Occasion.

Estimated Average Burden per Response: 15 Seconds.

Estimated Total Annual Burden: 66 Hours.

Issued in Washington, DC, on June 29, 2022.
Sandra L. Ray,
Aviation Safety Inspector.

AFS-260

[FR Doc. 2022-14250 Filed 7-1-22; 8:45 am]

BILLING CODE 4910-13-P